DEPARTMENT OF LABOR

Employment and Training Administration

Notice on Reallotment of Workforce Investment Act (WIA) Title I Formula Allotted Funds for Dislocated Worker Activities for Program Year (PY) 2010

AGENCY: Employment and Training Administration, Labor.

ACTION: Notice.

SUMMARY: The Workforce Investment Act, Public Law 105-220, requires the Secretary of Labor (Secretary) to conduct reallotment of dislocated worker formula allotted funds based on State financial reports submitted as of the end of the prior PY. This notice publishes PY 2010 dislocated worker funds for recapture by State and the amount to be reallotted to eligible States.

DATES: This notice is effective March 16, 2011.

FOR FURTHER INFORMATION CONTACT: Ms. Grace Kilbane, Administrator, U.S. Department of Labor, Office of Workforce Investment, Employment and Training Administration, 200 Constitution Avenue, NW., Room S-4231, Washington, DC. Telephone (202) 693-3980 (this is not a toll-free number) or fax (202) 693-3981.

SUPPLEMENTARY INFORMATION: WIA Section 132(c) requires the Secretary to conduct reallotment of WIA funds for the prior program year in any case where unobligated balances exceeded twenty percent. The procedures the Secretary uses for recapture and reallotment of funds are described in WIA regulation at 20 Code of Federal Regulations Section 667.150. For PY 2009 funds, financial reports were analyzed and found zero instances for the WIA Youth and Adult programs in which unobligated balances exceeded twenty percent. For the Dislocated Worker program, however, there were two States that had unobligated PY 2009 funds in excess of 20 percent. Therefore, a total of $408,982 will be recaptured from PY 2010 funding from these two States and reallotted to the remaining States, as required by WIA Section 132(c). The description of the methodology used for the calculation of the recapture/reallotment amounts and the distribution of the changes to PY 2010 formula allotments for dislocated worker activities are attached.

For any State from which funds are being recaptured, WIA Section 132(c)(5) requires the governor to prescribe equitable procedures for reacquiring funds from the State and local areas.

I. Attachment A

Workforce Investment Act Dislocated Worker Activities Program Year (PY) 2010 Reallotment to States Chart
| Excess unobligated PY 2009 funds for recapture in PY 2010 | PY 2009 dislocated worker allotments for eligible states | PY 2010 reallotment amount for eligible states | Total PY 2010 allotments | Total adjustment to PY 2010 (recapture/ reallotment) | Revised total PY 2010 allotments
Alabama | 0 | 12,621,558 | 4,508 | 17,669,335 | 4,508 | 17,673,843
Alaska | 0 | 3,392,665 | 1,212 | 2,187,095 | 1,212 | 2,188,307
Arizona* | 0 | 16,648,405 | 5,947 | 22,788,184 | 5,947 | 22,794,131
Arkansas | 0 | 7,192,470 | 2,569 | 6,867,051 | 2,569 | 6,869,620
California | 0 | 212,284,647 | 75,829 | 192,413,016 | 75,829 | 192,488,845
Colorado | 0 | 13,837,694 | 4,943 | 14,509,305 | 4,943 | 14,514,248
Connecticut | 0 | 14,238,672 | 5,086 | 11,850,579 | 5,086 | 11,855,665
Delaware | 0 | 1,950,897 | 697 | 2,778,921 | 697 | 2,779,618
District of Columbia | 0 | 3,628,361 | 1,296 | 2,990,511 | 1,296 | 2,991,807
Florida | 0 | 77,059,075 | 27,526 | 83,019,633 | 27,526 | 83,047,159
Georgia | 0 | 41,902,519 | 14,968 | 40,912,792 | 14,968 | 40,927,760
Hawaii | 0 | 2,067,480 | 739 | 3,268,124 | 739 | 3,268,863
Idaho | 0 | 2,709,982 | 968 | 4,536,856 | 968 | 4,537,824
Illinois | 0 | 65,561,923 | 23,419 | 54,673,396 | 23,419 | 54,696,815
Indiana | 0 | 25,076,767 | 8,958 | 27,257,656 | 8,958 | 27,266,614
Iowa | 0 | 4,999,095 | 1,786 | 5,888,367 | 1,786 | 5,890,153
Kansas | 0 | 4,978,239 | 1,778 | 6,855,442 | 1,778 | 6,857,220
Kentucky | 0 | 17,901,696 | 6,395 | 18,089,024 | 6,395 | 18,095,419
Louisiana | 0 | 8,857,065 | 3,164 | 9,812,674 | 3,164 | 9,815,838
Maine | 0 | 4,373,817 | 1,562 | 4,578,544 | 1,562 | 4,580,106
Maryland | 0 | 10,767,103 | 3,846 | 15,543,289 | 3,846 | 15,547,135
Massachusetts | 0 | 20,303,163 | 7,252 | 22,706,846 | 7,252 | 22,714,098
Michigan | 0 | 75,050,239 | 26,808 | 64,544,036 | 26,808 | 64,570,844
Minnesota | 0 | 20,054,286 | 7,163 | 18,020,939 | 7,163 | 18,028,102
Mississippi | 0 | 13,594,096 | 4,856 | 9,867,047 | 4,856 | 9,871,903
Missouri | 0 | 24,710,779 | 8,827 | 22,223,344 | 8,827 | 22,232,171
Montana | 0 | 1,679,893 | 600 | 2,174,950 | 600 | 2,175,550
Nebraska | 0 | 2,478,758 | 885 | 2,428,300 | 885 | 2,429,185
Nevada | 0 | 13,691,153 | 4,891 | 14,124,712 | 4,891 | 14,129,603
New Hampshire | 0 | 2,393,494 | 855 | 3,181,956 | 855 | 3,182,811
New Jersey | 280,451 | 0 | 0 | 33,365,324 | (280,451) | 33,084,873
New Mexico* | 0 | 2,832,500 | 1,012 | 4,093,214 | 1,012 | 4,094,226
New York | 0 | 63,490,356 | 22,679 | 65,534,311 | 22,679 | 65,556,990
North Carolina | 0 | 42,493,181 | 15,179 | 44,039,515 | 15,179 | 44,054,694
North Dakota | 0 | 876,713 | 313 | 690,086 | 313 | 690,399
Ohio | 0 | 55,974,110 | 19,994 | 51,610,221 | 19,994 | 51,630,215
Oklahoma | 0 | 5,762,276 | 2,058 | 6,905,534 | 2,058 | 6,907,592
Oregon | 0 | 16,418,257 | 5,865 | 20,167,658 | 5,865 | 20,173,523
Pennsylvania | 0 | 40,639,918 | 14,517 | 39,561,993 | 14,517 | 39,576,510
Puerto Rico | 0 | 28,244,122 | 10,089 | 17,054,847 | 10,089 | 17,064,936
Rhode Island | 128,531 | 0 | 0 | 6,227,600 | (128,531) | 6,099,069
South Carolina | 0 | 23,633,802 | 8,442 | 23,089,893 | 8,442 | 23,098,335
South Dakota | 0 | 912,475 | 326 | 1,000,388 | 326 | 1,000,714
Tennessee | 0 | 27,141,982 | 9,695 | 26,930,077 | 9,695 | 26,939,772
Texas | 0 | 51,436,825 | 18,374 | 61,378,563 | 18,374 | 61,396,937
Utah* | 0 | 3,383,375 | 1,209 | 4,625,970 | 1,209 | 4,627,179
Vermont | 0 | 1,673,255 | 598 | 1,787,950 | 598 | 1,788,548
Virginia | 0 | 13,503,287 | 4,823 | 18,472,220 | 4,823 | 18,477,043
Washington | 0 | 21,181,897 | 7,566 | 24,271,171 | 7,566 | 24,278,737
West Virginia | 0 | 3,424,387 | 1,223 | 4,551,211 | 1,223 | 4,552,434
Wisconsin | 0 | 15,363,236 | 5,488 | 19,934,322 | 5,488 | 19,939,810
Wyoming | 0 | 558,477 | 199 | 786,008 | 199 | 786,207
STATE TOTAL | $408,982 | $1,144,950,422 | $408,982 | $1,183,840,000 | $0 | $1,183,840,000
* Includes Navajo Nation.

II. Attachment B

Workforce Investment Act Dislocated Worker Activities Program Year 2010 Revised Allotments With Reallotment
| Total: Original | Total: Reallotment | Total: Revised
Alabama | 17,669,335 | 4,508 | 17,673,843
Alaska | 2,187,095 | 1,212 | 2,188,307
Arizona* | 22,788,184 | 5,947 | 22,794,131
Arkansas | 6,867,051 | 2,569 | 6,869,620
California | 192,413,016 | 75,829 | 192,488,845
Colorado | 14,509,305 | 4,943 | 14,514,248
Connecticut | 11,850,579 | 5,086 | 11,855,665
Delaware | 2,778,921 | 697 | 2,779,618
District of Columbia | 2,990,511 | 1,296 | 2,991,807
Florida | 83,019,633 | 27,526 | 83,047,159
Georgia | 40,912,792 | 14,968 | 40,927,760
Hawaii | 3,268,124 | 739 | 3,268,863
Idaho | 4,536,856 | 968 | 4,537,824
Illinois | 54,673,396 | 23,419 | 54,696,815
Indiana | 27,257,656 | 8,958 | 27,266,614
Iowa | 5,888,367 | 1,786 | 5,890,153
Kansas | 6,855,442 | 1,778 | 6,857,220
Kentucky | 18,089,024 | 6,395 | 18,095,419
Louisiana | 9,812,674 | 3,164 | 9,815,838
Maine | 4,578,544 | 1,562 | 4,580,106
Maryland | 15,543,289 | 3,846 | 15,547,135
Massachusetts | 22,706,846 | 7,252 | 22,714,098
Michigan | 64,544,036 | 26,808 | 64,570,844
Minnesota | 18,020,939 | 7,163 | 18,028,102
Mississippi | 9,867,047 | 4,856 | 9,871,903
Missouri | 22,223,344 | 8,827 | 22,232,171
Montana | 2,174,950 | 600 | 2,175,550
Nebraska | 2,428,300 | 885 | 2,429,185
Nevada | 14,124,712 | 4,891 | 14,129,603
New Hampshire | 3,181,956 | 855 | 3,182,811
New Jersey | 33,365,324 | (280,451) | 33,084,873
New Mexico* | 4,093,214 | 1,012 | 4,094,226
New York | 65,534,311 | 22,679 | 65,556,990
North Carolina | 44,039,515 | 15,179 | 44,054,694
North Dakota | 690,086 | 313 | 690,399
Ohio | 51,610,221 | 19,994 | 51,630,215
Oklahoma | 6,905,534 | 2,058 | 6,907,592
Oregon | 20,167,658 | 5,865 | 20,173,523
Pennsylvania | 39,561,993 | 14,517 | 39,576,510
Puerto Rico | 17,054,847 | 10,089 | 17,064,936
Rhode Island | 6,227,600 | (128,531) | 6,099,069
South Carolina | 23,089,893 | 8,442 | 23,098,335
South Dakota | 1,000,388 | 326 | 1,000,714
Tennessee | 26,930,077 | 9,695 | 26,939,772
Texas | 61,378,563 | 18,374 | 61,396,937
Utah* | 4,625,970 | 1,209 | 4,627,179
Vermont | 1,787,950 | 598 | 1,788,548
Virginia | 18,472,220 | 4,823 | 18,477,043
Washington | 24,271,171 | 7,566 | 24,278,737
West Virginia | 4,551,211 | 1,223 | 4,552,434
Wisconsin | 19,934,322 | 5,488 | 19,939,810
Wyoming | 786,008 | 199 | 786,207
State Total | 1,183,840,000 |  | 1,183,840,000
| Available 7/1/10
Alabama | 4,833,455 |  | 4,833,455
Alaska | 598,281 |  | 598,281
Arizona* | 6,233,719 |  | 6,233,719
Arkansas | 1,878,485 |  | 1,878,485
California | 52,634,673 |  | 52,634,673
Colorado | 3,969,027 |  | 3,969,027
Connecticut | 3,241,732 |  | 3,241,732
Delaware | 760,175 |  | 760,175
District of Columbia | 818,056 |  | 818,056
Florida | 22,710,060 |  | 22,710,060
Georgia | 11,191,714 |  | 11,191,714
Hawaii | 893,997 |  | 893,997
Idaho | 1,241,059 |  | 1,241,059
Illinois | 14,955,934 |  | 14,955,934
Indiana | 7,456,345 |  | 7,456,345
Iowa | 1,610,766 |  | 1,610,766
Kansas | 1,875,309 |  | 1,875,309
Kentucky | 4,948,261 |  | 4,948,261
Louisiana | 2,684,262 |  | 2,684,262
Maine | 1,252,463 |  | 1,252,463
Maryland | 4,251,874 |  | 4,251,874
Massachusetts | 6,211,469 |  | 6,211,469
Michigan | 17,656,052 |  | 17,656,052
Minnesota | 4,929,636 |  | 4,929,636
Mississippi | 2,699,135 |  | 2,699,135
Missouri | 6,079,206 |  | 6,079,206
Montana | 594,959 |  | 594,959
Nebraska | 664,263 |  | 664,263
Nevada | 3,863,822 |  | 3,863,822
New Hampshire | 870,426 |  | 870,426
New Jersey | 9,127,100 |  | 9,127,100
New Mexico* | 1,119,701 |  | 1,119,701
New York | 17,926,942 |  | 17,926,942
North Carolina | 12,047,030 |  | 12,047,030
North Dakota | 188,773 |  | 188,773
Ohio | 14,118,001 |  | 14,118,001
Oklahoma | 1,889,012 |  | 1,889,012
Oregon | 5,516,873 |  | 5,516,873
Pennsylvania | 10,822,202 |  | 10,822,202
Puerto Rico | 4,665,362 |  | 4,665,362
Rhode Island | 1,703,563 |  | 1,703,563
South Carolina | 6,316,251 |  | 6,316,251
South Dakota | 273,657 |  | 273,657
Tennessee | 7,366,735 |  | 7,366,735
Texas | 16,790,135 |  | 16,790,135
Utah* | 1,265,436 |  | 1,265,436
Vermont | 489,095 |  | 489,095
Virginia | 5,053,085 |  | 5,053,085
Washington | 6,639,390 |  | 6,639,390
West Virginia | 1,244,986 |  | 1,244,986
Wisconsin | 5,453,043 |  | 5,453,043
Wyoming | 215,013 |  | 215,013
State Total | 323,840,000 |  | 323,840,000
| Available 10/1/10
Alabama | 12,835,880 | 4,508 | 12,840,388
Alaska | 1,588,814 | 1,212 | 1,590,026
Arizona* | 16,554,465 | 5,947 | 16,560,412
Arkansas | 4,988,566 | 2,569 | 4,991,135
California | 139,778,343 | 75,829 | 139,854,172
Colorado | 10,540,278 | 4,943 | 10,545,221
Connecticut | 8,608,847 | 5,086 | 8,613,933
Delaware | 2,018,746 | 697 | 2,019,443
District of Columbia | 2,172,455 | 1,296 | 2,173,751
Florida | 60,309,573 | 27,526 | 60,337,099
Georgia | 29,721,078 | 14,968 | 29,736,046
Hawaii | 2,374,127 | 739 | 2,374,866
Idaho | 3,295,797 | 968 | 3,296,765
Illinois | 39,717,462 | 23,419 | 39,740,881
Indiana | 19,801,311 | 8,958 | 19,810,269
Iowa | 4,277,601 | 1,786 | 4,279,387
Kansas | 4,980,133 | 1,778 | 4,981,911
Kentucky | 13,140,763 | 6,395 | 13,147,158
Louisiana | 7,128,412 | 3,164 | 7,131,576
Maine | 3,326,081 | 1,562 | 3,327,643
Maryland | 11,291,415 | 3,846 | 11,295,261
Massachusetts | 16,495,377 | 7,252 | 16,502,629
Michigan | 46,887,984 | 26,808 | 46,914,792
Minnesota | 13,091,303 | 7,163 | 13,098,466
Mississippi | 7,167,912 | 4,856 | 7,172,768
Missouri | 16,144,138 | 8,827 | 16,152,965
Montana | 1,579,991 | 600 | 1,580,591
Nebraska | 1,764,037 | 885 | 1,764,922
Nevada | 10,260,890 | 4,891 | 10,265,781
New Hampshire | 2,311,530 | 855 | 2,312,385
New Jersey | 24,238,224 | (280,451) | 23,957,773
New Mexico* | 2,973,513 | 1,012 | 2,974,525
New York | 47,607,369 | 22,679 | 47,630,048
North Carolina | 31,992,485 | 15,179 | 32,007,664
North Dakota | 501,313 | 313 | 501,626
Ohio | 37,492,220 | 19,994 | 37,512,214
Oklahoma | 5,016,522 | 2,058 | 5,018,580
Oregon | 14,650,785 | 5,865 | 14,656,650
Pennsylvania | 28,739,791 | 14,517 | 28,754,308
Puerto Rico | 12,389,485 | 10,089 | 12,399,574
Rhode Island | 4,524,037 | (128,531) | 4,395,506
South Carolina | 16,773,642 | 8,442 | 16,782,084
South Dakota | 726,731 | 326 | 727,057
Tennessee | 19,563,342 | 9,695 | 19,573,037
Texas | 44,588,428 | 18,374 | 44,606,802
Utah* | 3,360,534 | 1,209 | 3,361,743
Vermont | 1,298,855 | 598 | 1,299,453
Virginia | 13,419,135 | 4,823 | 13,423,958
Washington | 17,631,781 | 7,566 | 17,639,347
West Virginia | 3,306,225 | 1,223 | 3,307,448
Wisconsin | 14,481,279 | 5,488 | 14,486,767
Wyoming | 570,995 | 199 | 571,194
State Total | 860,000,000 |  | 860,000,000
* Includes funds allocated to the Navajo Nation.

III. Attachment C

Dislocated Worker State Formula PY 2010 Reallotment Methodology

Reallotment Summary

This year, the Employment and Training Administration (ETA) analyzed State Workforce Investment Act (WIA) Dislocated Worker 9130 financial reports from the 6/30/10 reporting period for program year (PY) 2009 to determine if any State had unobligated funds in excess of twenty percent of their PY 2009 allotment amount. If so, that amount will be recaptured from PY 2010 funds and realloted among eligible States.

• Source Data: State WIA 9130 Financial Status Reports.

• Program:

State Dislocated Worker.

Rapid Response.

Local Dislocated Worker (includes local administration).

• Period: June 30, 2010.

• Years Covered: PY 2009.

Reallotment Calculation Process

(1) Determine the unobligated balance: In order to accomplish this, ETA computes the State's total amount of PY 2009 State obligations (including FY 2010 funds) for the Dislocated Worker (DW) program. State obligations are the sum of DW statewide activities obligations, Rapid Response obligations, and 100 percent of local DW program funds (which includes funds for local administration). The State's total unobligated balance for the DW program is the 2009 DW allotment amount minus the total DW obligations. (Note: for re-allotment purposes, DW allotted funds transferred to the Navajo Nation are added back to Arizona, New Mexico, and Utah local DW authorized amounts).

(2) Excluding State administrative costs: Section 667.150 of the regulations provides that the recapture calculations exclude the reserve for State administration, which is part of the DW statewide activities. Data on State administrative amounts authorized and obligated are not reported on WIA 9130 financial reports. In the preliminary calculation to determine States potentially liable for recapture, the DW portion of the State administrative amount authorized is estimated by calculating the five percent maximum amount for State DW administrative costs using the DW State allotment amounts. For the DW portion of the State administrative amount obligated, 100 percent of the estimated authorized amount is treated as obligated.

(3) Follow-up with States potentially liable for recapture: ETA requests that those States potentially liable for recapture provide additional data on State administrative amounts included in the PY 2009 and FY 2010 Statewide Activities amounts (authorized and obligated as of 6/30/10). If a State provides actual State DW administrative costs, authorized and obligated, in the comments section of revised 9130 reports, this data replaces the estimates. Based on the requested additional actual data submitted by potentially liable States on revised reports, the DW total allotment for these States is reduced by the DW portion of the State administrative amount authorized. Likewise, the DW total obligations for these States are reduced by the DW portion of the obligated State administrative funding.

(4) Those States (including those adjusted by actual State administrative data) with unobligated balances exceeding 20 percent of the combined PY2009 DW allotment amount will have their PY 2010 DW funding (from the FY 2011 advance portion of PY 2010 DW funding made available in the FY 2010 Appropriations Act) reduced (recaptured) by the amount of the excess.

(5) Finally, States with unobligated balances which do not exceed 20 percent (eligible States) will receive a share of the total recaptured amount (based on their share of the total PY 2009 DW allotments of eligible States) in their PY 2010 DW funding (the FY 2011 advance portion of PY 2010 DW funding made available in the FY 2010 Appropriations Act).

Signed at Washington, DC this 11th day of March, 2011.
Jane Oates,
Assistant Secretary for the Employment and Training Administration.

[FR Doc. 2011-6139 Filed 3-15-11; 8:45 am]

BILLING CODE 4510-FN-P